DEPARTMENT OF STATE

[Public Notice: 10916]

Notice of Determinations; Additional Culturally Significant Object Imported for Exhibition Determinations: “Marino Marini: Arcadian Nudes” Exhibition

SUMMARY: On September 25, 2019, notice was published on page 50560 of the Federal Register (volume 84, number 186) of determinations pertaining to certain objects to be included in an exhibition entitled “Marino Marini: Arcadian Nudes.” Notice is hereby given of the following determinations: I hereby determine that a certain additional object to be included in the exhibition “Marino Marini: Arcadian Nudes,” imported from abroad for temporary exhibition within the United States, is of cultural significance. The additional object is imported pursuant to a loan agreement with the foreign owner or custodian. I also determine that the exhibition or display of the additional exhibit object at the Center for Italian Modern Art, New York, New York, from on or about October 17, 2019, until on or about June 13, 2020, and at possible additional exhibitions or venues yet to be determined, is in the national interest. I have ordered that Public Notice of these determinations be published in the Federal Register.

FOR FURTHER INFORMATION CONTACT: Chi D. Tran, Paralegal Specialist, Office of the Legal Adviser, U.S. Department of State (telephone: 202-632-6471; email: section2459@state.gov). The mailing address is U.S. Department of State, L/PD, SA-5, Suite 5H03, Washington, DC 20522-0505.

SUPPLEMENTARY INFORMATION: The foregoing determinations were made pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000.

Matthew R. Lussenhop,
Principal Deputy Assistant Secretary, Bureau of Educational and Cultural Affairs, Department of State.

[FR Doc. 2019-21632 Filed 10-3-19; 8:45 am]

BILLING CODE 4710-05-P